SECURITIES AND EXCHANGE COMMISSION

Sunshine Act Meeting.

Notice is hereby given, pursuant to the provisions of the Government in the Sunshine Act, Public Law 94-409, that the Securities and Exchange Commission will hold a proxy voting roundtable on February 19, 2015 from 9:30 a.m. to 1:00 p.m.

The roundtable will focus on universal proxy ballots and retail participation in the proxy process. Roundtable panelists will be invited to discuss the state of contested director elections and whether changes should be made to the federal proxy rules to facilitate the use of universal proxy ballots by management and proxy contestants. Roundtable panelists also will be asked to discuss strategies for increasing retail shareholder participation in the proxy process, including how technology might affect retail participation.

The roundtable discussion will be held at SEC headquarters at 100 F Street NE., in Washington, DC. The roundtable will be webcast on the Commission's Web site at www.sec.gov and will be archived for later viewing. Seating for the public will be available.

For further information, please contact: The Office of the Secretary at (202) 551-5400.

Dated: February 11, 2015.
Brent J. Fields,
Secretary.

[FR Doc. 2015-03250 Filed 2-12-15; 11:15 am]

BILLING CODE 8011-01-P